SOCIAL SECURITY ADMINISTRATION

Privacy Act of 1974; as Amended; New System of Records and New Routine Use Disclosures

AGENCY: Social Security Administration (SSA).

ACTION: Proposed new system of records and proposed routine uses.

SUMMARY: In accordance with the Privacy Act (5 U.S.C. 552a(e)(4) and (e)(11)), we are issuing public notice of our intent to establish a new system of records entitled the Non-Attorney Representative Prerequisites Process File, 60-0355, and routine uses applicable to this system of records. Hereinafter, we will refer to the proposed system of records as the NARPPF system. The proposed system of records will consist of information used to determine the eligibility of a non-attorney who represents claimants before SSA to participate in the demonstration project for direct payment of fees. We invite public comments on this proposal.

DATES: We filed a report of the proposed new system of records and proposed routine use disclosures with the Chairman of the Senate Committee on Governmental Affairs, the Chairman of the House Committee on Government Reform, and the Director, Office of Information and Regulatory Affairs, Office of Management and Budget (OMB) on December 14, 2004. The proposed system of records and routine uses will become effective on January 23, 2005, unless we receive comments warranting them not to become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Mr. Vincent A. Dormarunno, Supervisory Social Insurance Specialist, Office of Public Disclosure, Office of the General Counsel, Social Security Administration, Room 3-A-6 Operations Building, 6401 Security Boulevard, Baltimore, Maryland 21235, e-mail address at Vincent.A.Dormarunno@ssa.gov, or by telephone at (410) 965-3669.

SUPPLEMENTARY INFORMATION:

I. Background and Purpose of the Proposed New System of Records Entitled the NARPPF System

A. General Background

The Social Security Protection Act of 2004 (SSPA) requires the Commissioner of Social Security to develop and implement a 5-year nationwide demonstration project that will extend to certain non-attorney representatives of claimants under titles II and XVI of the Social Security Act the option to have approved fees for their representation withheld and paid directly from a beneficiary's past-due benefits. Currently, by statute this option is available only to representatives who are attorneys.

Non-attorney representatives who wish to participate in the demonstration project must meet the prerequisites specified in section 303 of the SSPA, and any additional prerequisites that the Commissioner may prescribe.

B. Collection and Maintenance of the Data for the Proposed New System of Records Entitled the NARPPF System

SSA and/or its agents will collect and maintain the information that will be housed in the NARPPF system from applicants who have requested participation in the Non-Attorney Representative Demonstration Project. The information maintained in this system of records will be maintained in manual and electronic formats and will include information on all applications for participation. Specifically, it will contain some or all of the following: (1) Application information, including filing date and fee information; (2) the applicant's identifying information, including name, Social Security number (SSN), date and place of birth, business address, telephone numbers, e-mail addresses, fax numbers and fingerprints; (3) a work history, including employer names and addresses, dates of employment, self-employment information, and verification of employment; (4) the applicant's educational background and continuing education; (5) certain integrity information including previous Federal employment, suspensions and/or terminations of representative authorization, criminal background, and circumstances for previous employment termination, if applicable; (6) examination and examination results; (7) professional liability insurance information; (8) background check and report information; (9) direct payment eligibility status; (10) post-application discovery information including previously undisclosed eligibility information; and (11) post-eligibility audit and evaluation information. We will retrieve information from the proposed system of records by using the individual's name and/or SSN. Thus the NARPPF system will constitute a system of records under the Privacy Act.

II. Proposed Routine Use Disclosures of Data Maintained in the Proposed NARPPF System

A. Proposed Routine Use Disclosures

We are proposing to establish routine uses of information that will be maintained in the proposed NARPPF system as discussed below.

1. To the Office of the President for the purpose of responding to an individual pursuant to an inquiry received from that individual or from a third party on his or her behalf.

We will disclose information under this routine use only in situations in which an individual may contact the Office of the President, seeking that Office's assistance in a matter relating to information contained in this system of records. Information will be disclosed when the Office of the President makes an inquiry and indicates that it is acting on behalf of the individual whose record is requested.

2. To a congressional office in response to an inquiry from that office made at the request of the subject of a record.

We will disclose information under this routine use only in situations in which an individual may ask his or her congressional representative to intercede in a matter relating to information contained in this system of records. Information will be disclosed when the congressional representative makes an inquiry and indicates that he or she is acting on behalf of the individual whose record is requested.

3. To the Department of Justice (DOJ), a court or other tribunal, or another party before such tribunal when:

(a) SSA, or any component thereof; or

(b) Any SSA employee in his/her official capacity; or

(c) Any SSA employee in his/her individual capacity where DOJ (or SSA where it is authorized to do so) has agreed to represent the employee; or

(d) the United States or any agency thereof where SSA determines that the litigation is likely to affect the operation of SSA or any of its components, is party to litigation or has an interest in such litigation, and SSA determines that the use of such records by DOJ, a court or other tribunal, or another party before such tribunal, is relevant and necessary to the litigation, provided, however, that in each case, SSA determines that such disclosure is compatible with the purpose for which the records were collected.

We will disclose information under this routine use only as necessary to enable DOJ to effectively defend SSA, its components or employees in litigation involving the proposed new system of records and ensure that courts and other tribunals have appropriate information.

4. To contractors and other Federal agencies, as necessary, for the purpose of assisting SSA in the efficient administration of its programs. We contemplate disclosing information under this routine use only in situations in which SSA may enter into a contractual or similar agreement with a third party to assist in accomplishing an Agency function relating to this system of records.

We will disclose information under this routine use only in situations in which SSA may enter into a contractual agreement or similar agreement with a third party to assist in accomplishing an agency function relating to this system of records.

5. To student volunteers, individuals working under a personal service contract, participant contractors and other individuals performing functions for SSA, but technically not having the status of Agency employees, if they need access to the records in order to perform their assigned agency functions.

Under certain Federal statutes, SSA is authorized to use the service of volunteers and participants in certain educational, training, employment and community service programs. Examples of such statutes and programs include: 5 U.S.C. 3111 regarding student volunteers and 42 U.S.C. 2753 regarding the College Work-Study Program. We contemplate disclosing information under this routine use only when SSA uses the services of these individuals, and they need access to information in this system to perform their assigned Agency duties.

6. Non-tax return information which is not restricted from disclosure by Federal law may be disclosed to the General Services Administration (GSA) and the National Archives and Records Administration (NARA) under 44 U.S.C. 2904 and 2906, as amended by NARA Act of 1984, for the use of those agencies in conducting records management studies.

The Administrator of GSA and the Archivist of NARA are charged by 44 U.S.C. 2904, as amended, with promulgating standards, procedures and guidelines regarding record management and conducting records management studies. 44 U.S.C. 2906, as amended, provides that GSA and NARA are to have access to Federal agencies' records and that agencies are to cooperate with GSA and NARA. In carrying out these responsibilities, it may be necessary for GSA and NARA to have access to this proposed system of records. In such instances, the routine use will facilitate disclosure.

7. To Federal, State, and local law enforcement agencies and private security contractors, as appropriate, information necessary:

• To enable them to protect the safety of SSA employees and customers, the security of the SSA workplace, and the operation of SSA facilities, or

• To assist investigations or prosecutions with respect to activities that affect such safety and security or activities that disrupt the operation of SSA facilities.

We will disclose information under this routine use to law enforcement agencies and private security contractors when information is needed to respond to, investigate, or prevent activities that jeopardize the security and safety of SSA customers, employees or workplaces or that otherwise disrupt the operation of SSA facilities. Information would also be disclosed to assist in the prosecution of persons charged with violating Federal or local law in connection with such activities.

8. To inform a claimant/beneficiary that his/her representative is eligible to participate in the demonstration project or has been disqualified or suspended from participating in the demonstration project and/or from further representations before SSA.

We will inform individuals if their participating representative has been determined to be eligible to participate in the demonstration project or has been disqualified or suspended from further participation in this demonstration project and/or has been disqualified or suspended from further representation before SSA.

9. SSA may disclose information to a State agency or other certifying entity that uses such eligibility information in their certifying procedures.

We may disclose certain eligibility information to certifying entities for social workers, health care workers or others requiring such certifications, who have chosen to apply for participation in this demonstration project.

10. SSA may disclose information to contractors under contract to SSA and/or under contract to another agency with funds provided by SSA, for the performance of research, evaluation and statistical activities directly relating to this system of records.

We may disclose certain information to contractors under contract to SSA or another agency with funds provided by SSA, for the purpose of researching, evaluating and/or providing statistical information directly relating to the activities covered by this system of records.

B. Compatibility of Proposed Routine Uses

The Privacy Act (5 U.S.C. 552a(b)(3)) and our disclosure regulations (20 CFR part 401) permit us to disclose information under a published routine use for a purpose that is compatible with the purpose for which we collected the information. Section 401.150(c) of SSA Regulations permits us to disclose information under a routine use where necessary to carry out SSA programs. SSA Regulations at § 401.120 provide that we will disclose information when a law specifically requires the disclosure. The proposed routine uses numbered 1 through 5 and numbered 7 through 10 above will ensure efficient administration of the NARPPF system; the disclosure that would be made under routine use number 6 is required by Federal law. Thus, all routine uses are appropriate and meet the relevant statutory and regulatory criteria.

III. Records Storage Medium and Safeguards for the Proposed New System Entitled the NARPPF System

SSA will maintain information in the NARPPF system in electronic and paper form. Only authorized SSA and contractor personnel who have a need for the information in the performance of their official duties will be permitted access to the information. We will safeguard the security of the information by requiring the use of access codes to enter the computer system that will maintain the data and will store computerized records in secured areas that are accessible only to employees who require the information to perform their official duties. Any manually maintained records will be kept in locked cabinets or in otherwise secure areas.

Contractor personnel having access to data in the proposed system of records will be required to adhere to SSA rules concerning safeguards, access to and use of the data.

SSA and contractor personnel having access to the data on this system will be informed of the criminal penalties of the Privacy Act for unauthorized access to or disclosure of information maintained in this system. See 5 U.S.C. 552a(i)(1).

IV. Effect of the Proposed New System of Records Entitled NARPPF

The proposed new system of records will maintain only that information relevant to determining the eligibility of applicants that request participation in the section 303 Demonstration Project Extending Direct Payments to Non-Attorney Representatives. Additionally, SSA will adhere to all applicable provisions of the Privacy Act, Social Security Act and other Federal statutes that govern our use and disclosure of the information. Thus, we do not anticipate that the proposed system of records will have an unwarranted effect on the privacy of the individuals that will be covered by the NARPPF system.

Dated: December 14, 2004.
Jo Anne B. Barnhart,
Commissioner.

Social Security Administration (SSA), Notice of System of Records, Required by the Privacy Act of 1974; as Amended.

System number:

60-0355.

System name:

Non-Attorney Representative Prerequisites Process File (NARPPF), Social Security Administration, Deputy Commissioner for Disability and Income Security Programs, Office of Hearings and Appeals.

Security classification:

None.

System location:

Social Security Administration, Deputy Commissioner for Disability and Income Security Programs, Office of Hearings and Appeals, 5107 Leesburg Pike, Falls Church, Virginia, 22041.

Categories of individuals covered by the system:

Any non-attorney individual who applies to participate in the demonstration project for direct payment of fees under section 303 of the Social Security Protection Act of 2004 (SSPA) (Public Law No. 108-203). Applications for participation will be filed directly with a contract vendor.

Categories of records in the system:

Demonstration project application and supporting documentation, and corresponding eligibility determination. This may include some or all of the following: (1) Application information, including filing date and fee information; (2) the applicant's identifying information, including name, Social Security number, date and place of birth, business address, telephone numbers, e-mail addresses, fax numbers and fingerprints; (3) a work history, including employer names and addresses, dates of employment, self-employment information, and verification of employment; (4) the applicant's educational background and continuing education; (5) certain integrity information including previous Federal employment, suspensions and/or terminations of representative authorization, criminal background, and circumstances for previous employment termination, if applicable; (6) examination and examination results; (7) professional liability insurance information; (8) background check and report information; (9) direct payment eligibility status; (10) post-application discovery information including previously undisclosed eligibility information; and (11) post-eligibility audit and evaluation information.

Authority for maintenance of the system:

Section 303 of the SSPA.

Purpose(s):

The prerequisites process application files will be used to determine the eligibility of a non-attorney representative who represents claimants before SSA to participate in the demonstration project for the direct payment of fees.

Routine uses of records maintained in the system, including categories of users and the purpose of such uses:

Disclosures may be made for routine uses as indicated below. However, disclosure of any information defined as “return or return information” under 26 U.S.C. 6103 of the Internal Revenue Code (IRC) will not be disclosed unless authorized by a statute, the Internal Revenue Service (IRS), or IRS regulations.

1. To the Office of the President for the purpose of responding to an individual pursuant to an inquiry received from that individual or from a third party on his or her behalf.

2. To a congressional office in response to an inquiry from that office made at the request of the subject of a record.

3. To the Department of Justice (DOJ), a court or other tribunal, or another party before such tribunal when:

(a) SSA, or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is party to litigation or has an interest in such litigation, and SSA determines that the use of such records by DOJ, a court or other tribunal, or another party before such tribunal, is relevant and necessary to the litigation, provided, however, that in each case, SSA determines that such disclosure is compatible with the purpose for which the records were collected. Wage and other information which is subject to the provisions of the IRC (26 U.S.C. 6103) will not be disclosed under this routine use unless disclosure is expressly permitted by the IRC.

4. To contractors and other Federal agencies, as necessary, for the purpose of assisting SSA in the efficient administration of its programs. We contemplate disclosing information under this routine use only in situations in which SSA may enter into a contractual or similar agreement with a third party to assist in accomplishing an Agency function relating to this system of records.

5. To student volunteers, individuals working under a personal services contract, and other individuals performing functions for SSA, but technically not having the status of Agency employees, if they need access to the records in order to perform their assigned agency functions.

6. Non-tax return information which is not restricted from disclosure by Federal law may be disclosed to the General Services Administration (GSA) and the National Archives and Records Administration (NARA) under 44 U.S.C. 2904 and 2906, as amended by the NARA Act of 1984, for the use of those agencies in conducting records management studies.

7.To Federal, State, and local law enforcement agencies and private security contractors, as appropriate, information necessary:

• To enable them to protect the safety of SSA employees and customers, the security of the SSA workplace, the operation of SSA facilities, or

• To assist investigations or prosecutions with respect to activities that affect such safety and security or activities that disrupt the operation of SSA facilities.

8. To inform a claimant/beneficiary that his/her representative is eligible to participate in the demonstration project or has been disqualified or suspended from participating in the demonstration project and/or from further representation before SSA.

9. To a State agency or other certifying entity that uses such eligibility information in their certifying procedures.

10. To contractors under contract to SSA and/or under contract to another agency with funds provided by SSA, for the performance of research, evaluation and statistical activities directly relating to this system of records.

Policies and Practices for Storing, Retrieving, Accessing, Retaining and Disposing of Records in the System:

Storage:

Records in this system are stored electronically and in paper form.

Retrievability:

Records in this system are indexed and retrieved by the name and SSN of the demonstration project applicant.

Safeguards:

Security measures include the use of access codes to enter the computer system which will maintain the data, and the storage of computerized records in secured areas which are accessible only to employees who require the information in performing their official duties. Any manually maintained records will be kept in locked cabinets or in otherwise secure areas. SSA employees who have access to the data will be informed of the criminal penalties of the Privacy Act for unauthorized access to or disclosure of information maintained in the system. See 5 U.S.C. 552a(i)(1).

Contractor personnel having access to data in the system of records will be required to adhere to SSA rules concerning safeguards, access and use of the data.

Retention and disposal:

Applications and supporting documentation are held for a minimum of 7 years. Paper files are destroyed by shredding when deemed appropriate. Computer files are archived after 12 months.

System manager(s) and address:

Director, Office of Policy, Planning and Evaluation, Office of Hearings and Appeals, 5107 Leesburg Pike, Falls Church, VA 22041.

Notification procedure(s):

An individual can determine if this system contains a record about him/her by writing to the systems manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense. (20 CFR 401.45.)

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual. (20 CFR 401.45.) If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.45).

Record access procedure(s):

Same as Notification procedures. Requesters also should reasonably specify the record contents they are seeking. These access procedures are in accordance with SSA Regulations (20 CFR 401.50).

Contesting record procedure(s):

Same as Notification procedures. Requesters also should reasonably identify the record, specify the information they are contesting, and state the corrective action sought and the reasons for the correction with supporting justification showing how the record is untimely, incomplete, inaccurate or irrelevant. These procedures are in accordance with SSA Regulations (20 CFR 401.65).

Record source categories:

Applications, supporting documentation, eligibility criteria, and corresponding eligibility determinations. As a part of the eligibility criteria, SSA may compare records from the Representative Disqualification/Suspension Information System (#60-0219) with those contained in the NARPPF system.

Systems exempt from certain provisions of the Privacy Act:

None.

[FR Doc. 04-28303 Filed 12-27-04; 8:45 am]

BILLING CODE 4191-02-P